Title 3—

The President

Proclamation 8073 of October 20, 2006

United Nations Day, 2006

By the President of the United States of America

A Proclamation

On October 24, 1945, the United Nations was formed to promote peace and international security, further economic and social development, protect fundamental human dignity, and recognize the equal rights of men and women. On United Nations Day, we recognize the establishment of this important organization and underscore our commitment to making the world free and secure.

The United Nations was built on the idea that nations can act together to resolve conflict, and in the more than six decades since it was formed, the United Nations has addressed significant international challenges. With 192 member countries, the United Nations works to promote freedom, expand opportunity, and reach out to those in need.

Today, as we work to combat extremism and terror with justice and dignity, the efforts of the United Nations are as vital as ever. The world needs the members of the United Nations to stand together to help the organization live up to its founding ideals, fulfill its mission, and spread hope and liberty to people around the globe. Together, we can combat terrorism, help empower the voices of moderation, fight disease, and work for a world where all people are free to determine their own destinies.

NOW, THEREFORE, I, GEORGE W. BUSH, President of the United States of America, by virtue of the authority vested in me by the Constitution and laws of the United States, do hereby proclaim October 24, 2006, as United Nations Day. I urge the Governors of the 50 States, the Governor of the Commonwealth of Puerto Rico, and the officials of other areas under the flag of the United States to observe United Nations Day with appropriate ceremonies and activities.

IN WITNESS WHEREOF, I have hereunto set my hand this twentieth day of October, in the year of our Lord two thousand six, and of the Independence of the United States of America the two hundred and thirty-first.

[FR Doc. 06-8903

Filed 10-24-06; 8:45 am]

Billing code 3195-01-P